DEPARTMENT OF DEFENSE

Office of the Secretary

DoD Board of Actuaries Open Meeting

AGENCY: Department of Defense.

ACTION: Notice of meeting.

SUMMARY: The Department of Defense published a notice March 17, 2009 (74 FR 11353) announcing a meeting of the DoD Board of Actuaries that will take place August 27-28, 2009. This notice is being published to correct the suite number for the meeting location. The meeting will be held in Suite 250 instead of Suite 270. All other information remains the same.

ADDRESSES: 4040 N. Fairfax Drive, Suite 250, Arlington, VA 22203.

FOR FURTHER INFORMATION CONTACT: Inger Pettygrove at the DoD Office of the Actuary, 4040 N. Fairfax Drive, Suite 308, Arlington, VA 22203; telephone 703-696-7413.

Dated: March 31, 2009.
Patricia L. Toppings,
OSD Federal Register, Liaison Officer, Department of Defense.

[FR Doc. E9-7594 Filed 4-3-09; 8:45 am]

BILLING CODE 5001-06-P